DEPARTMENT OF ENERGY

Federal Energy Regulatory Commission

[Project No. 485-063—Georgia and Alabama]

Georgia Power Company; Bartletts Ferry Hydroelectric Project; Notice of Revised Restricted Service List for a Programmatic Agreement

Rule 2010 of the Federal Energy Regulatory Commission's (Commission) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Georgia State Historic Preservation Officer (SHPO), the Alabama SHPO, and the Advisory Council on Historic Preservation (Advisory Council) pursuant to the Advisory Council's regulations, 36 CFR part 800, implementing section 106 of the National Historic Preservation Act, as amended, (16 U.S.C. section 470f), to prepare a programmatic agreement for managing properties included in, or eligible for inclusion in, the National Register of Historic Places that could be affected by issuance of a new license for the Bartletts Ferry Hydroelectric Project No. 485.

The programmatic agreement, when executed by the Commission, the Georgia SHPO, the Alabama SHPO, and the Advisory Council would satisfy the Commission's section 106 responsibilities for all individual undertakings carried out in accordance with the license until the license expires or is terminated (36 CFR section 800.13(e)).

On April 28, 2011, the Commission staff established a restricted service list for the Bartletts Ferry Hydroelectric Project. On June 14, 2012, the Kialegee Tribal Town requested a revision to the restricted service list. The revision is:

“Henry Harjo” is replaced with “Kelly Davis or Representative.”

On June 14 and June 19, 2012, the Alabama-Quassarte Tribal Town and the United Keetoowah Band of Cherokee Indians in Oklahoma, respectively, requested to be added to the restricted service list. The restricted service list is supplemented to include:

“Augustine Asbury or Representative, Alabama-Quassarte Tribal Town, P.O. Box 187, Wetumka, OK 74883;”

“Lisa LaRue-Baker, Acting THPO, or Representative, United Keetoowah Band of Cherokee Indians in Oklahoma, P.O. Box 748, Tahlequah, OK 74465.”

Dated: June 25, 2012.
Kimberly D. Bose,
Secretary.

[FR Doc. 2012-15970 Filed 6-28-12; 8:45 am]

BILLING CODE 6717-01-P